DEPARTMENT OF HEALTH AND HUMAN SERVICES

Request for Application To Develop Steps to Healthier Girls Program

AGENCY: Department of Health and Human Services, Office of the Secretary, Office of Public Health and Science.

ACTION: Notice.

Funding Opportunity Title: Steps to Healthier Girls Program.

Announcement Type: Sole source cooperative agreement notice.

Catalog of Federal Domestic Assistance: The Catalog of Federal Domestic Assistance number is 93.290.

Authority: 42 U.S.C. 300u-2(a)(1), 300u-6(e).

DATES: To receive consideration, the application must be received by the Office of Grants Management, Office of Public Health and Science (OPHS), Department of Health and Human Services (DHHS), no later than August 5, 2005. Mailed application will be considered as meeting the deadline if it is received by the Office of Grants Management, OPHS, DHHS no later than 5 p.m. e.d.t. on the application due date. The application due date requirement specified in this announcement supersedes the instructions in the OPHS-1.

SUMMARY: The Office on Women's Health (OWH) is the focal point for women's and girls' health within the OPHS, DHHS. Under the direction of the Deputy Assistant Secretary for Women's Health, OWH works to improve the health of women across the life cycles and increase awareness and understanding of women's health issues. In addition to its central office, OWH has regional offices located throughout the U.S. staffed by a Regional Women's Health Coordinator (RWHC).

Chartered by the U.S. Congress in 1950, Girl Scouts of the USA (GSUSA) is a national nonprofit organization dedicated to helping all girls build character and gain skills for success in the real world in an accepting and nurturing environment. GSUSA operates from its national headquarters in New York City along with its 300 local Girl Scout councils or offices, 236,000 troops/groups, and 986,000 adult volunteers.

OWH in collaboration with GSUSA is planning to provide grant support for a Steps to Healthier Girls Program. The purpose is to improve the health of diverse girls ages 11 years to 17 years through educational and experiential activities related to physical activity/fitness, good nutrition and healthy lifestyles consistent with the Steps to a HealthierUS initiative of the DHHS and the Memorandum of Understanding between DHHS and GSUSA. This project is based on the premise that motivating girls and adolescents to learn about and participate in activities that address these three subject areas can have a significant effect on increasing the quality and years of healthy life and on eliminating health disparities.

The Steps to Healthier Girls Program will be a collaborative effort among the Regional Women's Health Coordinators (RWHC), GSUSA, and the selected Girl Scout Councils in each of the eight (8) Regions of the DHHS, OPHS, OWH.

The Women's Health Coordinators from two Regions (II and III) will provide overall oversight for the grant, and Region III will be the primary contact, while the RWHC's will provide the technical assistance and local oversight of the project at the regional level.

The Federal Government will:

a. Conduct an orientation meeting for the grantee within the first month of funding.

b. Review and resolve requested project modifications.

c. Review the design of the Steps to Healthier Girls programs.

d. Make site visits to Steps to Healthier Girls program sites.

e. Review and resolve all initial, 3 month after award and final progress reports.

f. Participate in meetings with grantee and councils.

I. Funding Opportunity Description

This notice announces a sole source cooperative agreement award that is expected to be made, subject to conditions set forth below, to the GSUSA for a joint project to be known as “Steps to Healthier Girls.”

The primary purpose of Steps to Healthier Girls is to educate, motivate, and empower 75-100 diverse girls, ages 11-17, in each of eight (8) targeted communities (one in each of 8 participating regions of the DHHS, OWH) to engage in activities that promote good health in the areas of physical activity/fitness, good nutrition, and healthy lifestyles.

Objectives

The DHHS is committed to achieving health promotion and disease prevention through its Healthy People 2010 Objectives and the Steps to a HealthierUS Initiative. Steps to Healthier Girls program activities and evaluations are to be aligned with both of these programs.

More information on the Healthy People 2010 objectives may be found on the Healthy People 2010 Web site: http://www.health.gov/healthypeople. Another reference is Healthy People 2000: Final Review. One free copy may be obtained from the National Center for Health Statistics (NCHS), 6525 Belcrest Road, Room 1064, Hyattsville, MD 20782 or telephone (301) 458-4636 [DHHS Publication No. (PHS) 99-1256]. This document may also be downloaded from the NCHS Web site: http://www.cdc.gov/nchs.

Steps to a HealthierUS is a DHHS initiative that advances the President's goal of helping Americans live longer, better, and healthier lives. It lays out DHHS priorities and programs for Steps to a HealthierUS, focusing attention on promising approaches for promoting health and preventing disease. Additional information can be found on the Steps to a Healthier U.S. Web site: http://www.healthierus.gov/steps.

The President's Council on Physical Fitness and Sports Web site includes the President's Challenge to track physical activity/fitness. This free interactive Web site tool will be used to assess the girls' levels of physical activity/fitness and will assist with the evaluation of the Steps to Healthier Girls program. The Web site is: http://www.presidentschallenge.org.

The objectives of the Steps to Healthier Girls Program are to:

Increase the number of girls who engage regularly in moderate physical activity, preferably daily, for at least 60 minutes per day.

Increase girls' knowledge of healthy nutrition and healthy weight and promote strategies for accomplishing these.

Increase girls' knowledge about the ill health effects of tobacco and promote strategies for accomplishing these.

Increase girls' knowledge of the importance of a healthy environment and strategies to accomplish this.

The proposed program in each region must address girls' health from a gender-based, girl-centered, cultural and community-based perspective. Information provided must be culturally, linguistically, and age-appropriate for the program participants. The information for girls and their parents and guardians must be developed in accordance with health literacy principles. This includes assessing the capacity of the girls and adults to obtain, process, understand and apply the information and designing information that matches their capacities. It also includes evaluating the impact of enhancing their understanding and decision-making. In addition, in Region VI, the program must also address heart health and must engage the participating girls' mothers and encourage multigenerational physical activity.

The DHHS OWH is planning to award grant funds to GSUSA to carry out the following activities: (1) Identify and justify the selection of eight (8) programs to be implemented and evaluated through the GSUSA councils; one program shall be implemented in each of the following eight Regions of the OWH: Regions II, III, IV, V, VI, VII, VIII & X; (2) provide a stipend of up to $6,000.00 to each of the 8 selected GSUSA councils to implement and evaluate the program; and (3) facilitate collaboration between GSUSA councils and the corresponding DHHS Regional OWH in the implementation and evaluation of each program.

Program Parameters. Each GSUSA council will plan a special event to launch the Steps to Healthier Girls program in their community. The Steps to Healthier Girls community program may consist of a health expo, a health walk, a health symposium, or related activity addressing physical activity/fitness, nutrition, and healthy lifestyles by and for girls. All participants will be diverse Girl Scouts ages 11-17. This will be followed by a commitment by the Girl Scouts to engage in some physical activity/fitness daily over a period of 6 weeks, which they will track on an activity log. The activity log can be obtained from the President's Council on Physical Fitness and Sports under the existing President's Challenge program under “Kids” or “Teens” depending on the girls' ages. The log can be downloaded from the Web site: http://www.presidentschallenge.org. In addition, each GSUSA council will establish a baseline for the participating girls based on their pre-program activity/fitness level and understanding of and capacity to act on information about nutrition, tobacco, and environmental factors that promote healthy lifestyles. At the conclusion of the six weeks, the participating girls will be evaluated for understanding gained in the three areas of physical activity/fitness, nutrition, and healthy lifestyles as well as for an increase in physical activity/fitness by evaluating the logs and changes in healthy eating habits to include more fruit, vegetables, calcium and decrease in consumption of sugar. Each GSUSA council will prepare a final report on the activity carried out in each community. Upon satisfactory participation and completion of the Steps to Healthier Girls program, each of the girls will earn a Girl Scouts badge or award.

The GSUSA and selected Girl Scout Councils in collaboration with the eight DHHS Regional Women's Health Offices must: (1) Identify the date and place for a kick-off event that highlights the three targeted health subject areas for a minimum of 75 diverse girls ages 11 to 17 years; (2) put into place and track follow up activities that address the three targeted health areas for 6 weeks; (3) At the end of the 6 weeks collect the forms from the girls who have completed the program (4) the forms from each of the eight GSUSA councils will be provided to their National Office GSUSA in New York City, NY, which will then provide these forms to the primary project officer for evaluation of the program.

The GSUSA and selected Girl Scout Councils should use health literacy principles to design gender-based, culturally appropriate, and science-based literature on each health topic. The health literacy literature and principles can be found in the Institute of Medicine report, “Health Literacy: a Prescription to End Confusion” (2004). Other materials can be found in the National Women's Health Information Center (NWHIC) Toll-Free Information Line (1-800-994-WOMAN) and NWHIC's Web site at http://www.4woman.gov and the http://www.4girls.gov Web site, and The President's Council on Physical Fitness and Sports http://www.fitness.gov and http://www.presidentschallenge.org.

II. Award Information

Under this announcement, the Office on Women's Health Regions (OWHR) anticipates making, through the cooperative agreement grant mechanism, to the GSUSA, a one (1) year award in the amount of $60,000 for a 12-month budget period to support a jointly sponsored Steps to Healthier Girls project. The anticipated grant award project period under the proposed cooperative agreement is expected to be from September 1, 2005 through August 30, 2006.

Criteria for Selection

Basis for Sole Source Restriction on the Planned Cooperative Agreement: The Office of Grants Management, OPHS, has determined in accordance with AGAM 2.04 104A 1.e.(2) that this project is an outgrowth of a current ongoing collaboration between the OWH and GSUSA that is part of the Department's Steps to HealthierUS. In addition, responsible government officials have determined that the GSUSA:

(a) Is a well-established, trusted, national organization that serves diverse 11 to 17 year old girls.

(b) Has demonstrated evidence of commitment to girls' health.

(c) Has shown interest in the health promotion topics identified as priority subject areas under its MOU with DHHS which was the basis for an ongoing collaborative relationship and this particular project with OWH.

(d) Is able/willing to assist the local councils and the RWHCs in the design of the program.

(e) Is able/willing to implement the program designed by the RWHCs and the councils.

(f) Is able to support the evaluation process.

(g) Has the organizational potential in terms of an ongoing structure and resources to sustain and expand health promotion program activities for diverse girls 11 to 17 years of age.

Whether or not an award is actually made will depend on the application addressing the program components described in section I. Funding Opportunity Description and the amount of funds available for the Steps to Healthier Girls program (see Section IV.2 “Application for Submission Information”). The government will not be obligated to make any awards as a result of this announcement.

III. Eligibility Information

Eligible Applicants. The GSUSA is the eligible applicant for the Steps to Healthier Girls program.

Cost Sharing or Matching Funds. Cost sharing, matching funds, and cost participation is not a requirement of this grant.

IV. Application and Submission Information

1. Address to Request Application Package: The application kit may be requested by calling (240) 453-8822 or writing to Ms. Karen Campbell, Director, Office of Grants Management, OPHS, DHHS, 1101 Wootton Parkway, Suite 550, Rockville, MD 20852.

2. Content of and Form of Application Submission: The applicant must use Grant Application OPHS-1. Forms to be completed include the Face Page/Cover Page (SF424), Checklist, and Budget Information Forms for Non-Construction Programs (SF424A). The applicant is required to submit an original ink-signed and dated application and 2 photocopies. All pages must be numbered clearly and sequentially beginning with the Project Profile. The application must be typed double-spaced on one side of plain 8½″ x 11″ white paper, using at least a 12 point font, and contain 1″ margins all around. In addition to the application forms, applicants must provide the following:

The application shall consist of the Technical Proposal, which includes the Project Narrative and Budget Narrative, Appendices, and all required forms in the Application Package.

Project Narrative: The Project Narrative for this Steps to Healthier Girls announcement must: (a) Address the Application Review Factors (section V) listed in this announcement; (b) present a comprehensive Project Plan to develop Steps to Healthier Girls in all eight DHHS regions over a one-year period, including identification of project staff and a detailed time line for executing the Steps to Healthier Girls over the one year period; (c) reflect an understanding of the public health objectives and issues addressed in the Steps to Healthier Girls Project; and (d) include a Project Evaluation plan using the activity tracking forms from the Girl Scout Councils in each of the eight participating DHHS Regional Offices on Women's Health.

The application narrative will include assurances signed by a GSUSA representative authorized to bind the organization that GSUSA will:

a. Work with the RWHC in each region to identify a group of girls for the implementation of the program in each of the eight (8) DHHS regions.

b. Ascertain that the councils provide a timeline and plan to conduct the kick-off event, which will focus on the three areas of physical activity/fitness, good nutrition, and healthy lifestyles.

c. Ascertain that the councils provide a plan and timeline showing the educational sessions and tracking of the girls' activities during the 6 week period following the kick-off event.

d. Submit the required initial, 3-month after the award, and final reports by the due dates stated in this announcement and the Notice of Grant Award.

The Project Narrative must not exceed a total of 25 double-spaced pages, excluding the appendices. The original and each copy must be stapled and/or otherwise securely bound. The applicant must pay particular attention to structuring the narrative to respond clearly and fully to each review factor and associated criteria. If the application does not adhere to these guidelines, it may not be reviewed.

Appendices

A. Memorandums of Agreement/Understanding/Partnership Letters.

B. Required Forms (Assurance of Compliance Form, etc.).

C. Key Staff Resumes.

D. Organizational Chart reflecting Girl Scouts of the U.S.A. Headquarters and Councils.

E. Other attachments (per #6 below “Other Application Requirements”).

3. Submission Date and Times: Application Submission: The application should be submitted to: Ms. Karen Campbell, Director, Office of Grants Management, OPHS, DHHS, 1101 Wootton Parkway, Suite 550, Rockville, MD 20852.

Application Submission Date and Time: To be considered for review, the application must be received by the Office of Grants Management, OPHS, DHHS, by 5 p.m. e.d.t. on August 5, 2005. The application will be considered as meeting the deadline if it is received on or before the deadline date. The application due date requirement in this announcement supersedes the instructions in the OPHS-1.

Electronic submission through the Grants.gov Web site Portal provides for the application to be submitted electronically. Information about the system is available on the Grants.gov Web site, http://www.grants.gov. The application submitted by facsimile transmission (FAX) or any other electronic format are ineligible for review and will not be accepted. The application that does not meet the deadline will be considered ineligible and will be returned to the applicant unread.

4. Intergovernmental Review: This cooperative agreement is not a grant for health services nor will it impact public health systems. Therefore, no Public Health System Impact Statement (PHSIS) is required, and Executive Order 12372 does not apply.

5. Funding Restrictions: The application shall include a Project Budget as part of the Technical Proposal. Out of a budget of up to $60,000.00, up to $48,000.00 may be designated for use by the Girl Scout Councils to implement the regional programs at the local level. The amount requested for the Councils is to be divided equally for a total of up to $6,000.00 for each of the eight selected. Not more than 10% (or up to $6,000.00) of the funds may be budgeted for administrative overhead, such as office supplies, mailing, and personnel to carry out these functions. The remaining part of the budget, up to $6,000.00, are to be used to create a report by an independent source that aggregates and summarizes the reports received from each of the Councils in the eight (8) DHHS Regions and identifies program outcomes. All budget requests must be justified fully in terms of the proposed Steps to Healthier Girls' program goals and objectives and include an itemized computational explanation/breakout of how costs were determined. Funds may not be used for construction, building alterations, equipment purchase, medical treatment, renovations, or to purchase food.

6. Other Application Requirements: Data Universal Numbering System (DUNS) number: Beginning October 1, 2003, all applicants are required to obtain a Data Universal Numbering System (DUNS) number as preparation for doing business electronically with the Federal Government. The DUNS number must be obtained prior to applying for Office on Women's Health funds. The DUNS number is a nine-character identification code provided by the commercial company Dun & Bradstreet, and serves as a unique identifier of business entities. There is no charge for requesting a DUNS number, and you may register and obtain a DUNS number by either of the following methods:

Telephone: 1-866-705-5711.

Web site: https://www.dnb.com/product/eupdate/requestOptions.html.

Be sure to click on the link that reads, “DUNS Number Only” at the right hand, bottom corner of the screen to access the free registration page. Please note that registration via the Web site may take up to 30 business days to complete.

V. Application Review Information

Review Criteria: The technical review of the application will consider the following factors:

A. Technical Proposal (45 Points)

The completeness, practicality, and feasibility of the applicant's approach/methodology in terms of its ability to address the specific requirements of the announcement, as well as evidence of creativity and innovation. Consideration shall be given for clarity, style, and format of the application. Soundness of evaluation objectives for measuring program effectiveness and changes in health outcomes.

B. Understanding Public Health Issues (30 Points)

Awareness and understanding of the complex issues in the area of girls' health relevant to disease prevention and health promotion; cultural, economic, and health literacy obstacles to achieving health goals; as well as demonstrated understanding of health literacy issues for target populations and the impact on program design and outcomes.

Familiarity with Healthy People 2010, the Nation's Health Promotion and Disease Prevention Objectives and the 10 Leading Health Indicators; and with Steps to a Healthier U.S. program.

Demonstrated understanding of the target populations.

C. Personnel Capability and Experience (10 Points)

Relatedness of the educational background and relevant work experience of proposed staff to their designated responsibility on the project and with the target population.

D. Offeror's Past Experience (10 Points)

Previous experience of this organization in managing similar or related contracts or grants comparable in technical complexity.

E. Facilities (05 Points)

Availability of, or access to, facilities and compatible equipment (including appropriate computer hardware and software capabilities) to be used specifically for the proposed effort.

The application will be screened upon receipt. If judged to be incomplete or arrive after the deadline, it will be returned without review or comment. If the application exceeds the requested amount of $60,000.00 for a twelve-month budget period, it may also be returned without review or comment. If the applicant is judged to be in compliance, it will be notified by the Office of Grants Management. The accepted application will be reviewed for technical merit in accordance with DHHS policies. The application will be evaluated by a technical review panel composed of experts in the fields of program management, community service delivery, community outreach, health education, community-based research, and community leadership development and evaluation. Consideration for award will be given to the applicant demonstrating plans for the development of a sustainable, results-oriented, girl-centered program. The applicant is advised to pay close attention to the specific program guidelines and general instructions in the application kit that may be obtained from Ms. Karen Campbell, Office of Grants Management, OPHS, DHHS, 1101 Wootton Parkway, Suite 550, Rockville, MD 20852 and to the definitions provided in this notice.

VI. Award Administration Information

1. Award Notices: Within two weeks of the review of the application, GSUSA will receive a letter stating whether they are likely to be or have not been approved for funding. The letter is not an authorization to begin performance of grant activities. The applicant selected for funding support will receive a Notice of Grant Award signed by the grants officer. This is the authorizing document and it will be sent electronically and followed up with a mailed copy. Pre-award costs are not supported.

2. Administrative and National Policy Requirements: (1) Requests that require prior approval from the awarding office (See Chapter 8, PHS Grants Policy Statement) must be submitted in writing to the GMO. Only responses signed by the GMO are to be considered valid. Grantees who take action on the basis of responses from other officials do so at their own risk. Such responses will not be considered binding by or upon the OWH. (2) Responses to reporting requirements, conditions, and requests for post-award amendments must be mailed to the attention and address of the Grants Management Specialist indicated below in “Contacts.” All correspondence requires the signature of an authorized business official and/or the project director. Failure to follow this guidance will result in a delay in responding to your correspondence. (3) The DHHS Appropriations Act requires that, to the greatest extent practicable, all products purchased with funds made available under this award should be American-made. (4) The DHHS Appropriations Act requires that, when issuing statements, press releases, requests for proposals, bid solicitations, and other documents describing projects or programs funded in whole or in part with Federal money, the issuance shall clearly state the percentage and dollar amount of the total costs of the program or project that will be financed with Federal money and the percentage and dollar amount of the total costs of the project or program that will be financed by nongovernmental sources. (5) A notice in response to the President's Welfare-to-Work Initiative was published in the Federal Register on May 16, 1997. This initiative is designed to facilitate and encourage grantees to hire welfare recipients and to provide additional training and/or mentoring as needed. The text of the notice is available electronically on the OMB home page at http://www.whitehouse.gov/wh/eop/omb.

3. Reporting: In addition to those listed above, a successful applicant will submit 3 reports: an initial, a three-month after the award, and one final report that includes a discussion of steps taken to implement the Steps to Healthier Girls program in each Region, the impact of the program on the targeted girls, an initial Financial Status Report, a final Program Report, and a final Financial Status Report. The purpose of the initial and three month reports is to provide accurate and timely program information to program managers and to respond to Congressional, Departmental, and public requests for information about the Steps to Healthier Girls program. An original and two copies of the initial and three month progress report must be submitted by November 1, 2005, and December 1, 2005 (assuming a September 1, 2005 start date). The last final report will serve as the annual progress report and must describe all project activities for the entire year.

VII. Agency Contact(s)

For application kits and information on budget and business aspects of the application, please contact: the Office of Grants Management, OPHS, DHHS, 1101 Wootton Parkway, Suite 550, Rockville, MD 20857. Telephone: (240) 453-8822. Questions regarding programmatic information and/or requests for technical assistance in the preparation of the grant application should be directed in writing to CAPT Rosa Myers, Regional Women's Health Coordinator, DHHS Region III, at 150 S. Independence Mall West, Suite 436, Philadelphia, PA 19106, e-mail: rmyers@osophs.dhhs.gov or to Sandra Estepa, Regional Women's Health Coordinator, HHS Region II at 26 Federal Plaza, Room 3835, New York, NY 10278, e-mail: sestepa@osophs.dhhs.gov.

VII. Other Information

Information on girls' wellness can be found at the http://www.4girls.gov Web site. Information on health can also be found on the http://www.healthfinder.gov Web site.

**The Government is not obligated to make any awards as a result of this announcement.

Definitions

For the purposes of this cooperative agreement program, the following definitions are provided:

Culturally competent: Information and services provided at the educational level and in the language and cultural context that are most appropriate for the individuals for whom the information and services are intended. Additional information on cultural competency is available at the following Web site: http://www.aoa.dhhs.gov/May2001/factsheets/Cultural-Competency.html.

Cultural perspective: Recognizes that culture, language, and country of origin have an important and significant impact on the health perceptions and health behaviors that produce a variety of health outcomes.

Gender-based Care: Highlights inequalities between men and women in access to resources to promote and protect health, in responses from the health sector, and in the ability to exercise the right to quality health care.

Healthy People 2010: A set of national health objectives that outlines the prevention agenda for the Nation. Healthy People 2010 identifies the most significant preventable threats to health and establishes national goals for the first decade of the 21st century. Individuals, groups, and organizations are encouraged to integrate Healthy People 2010 into current programs, special events, publications, and meetings. Businesses can use the framework, for example, to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time. More information on the Healthy People 2010 objectives may be found on the Healthy People 2010 Web site: http://www.health.gov/healthypeople.

Sustainability: An organization's or program's staying power: the capacity to maintain both the financial resources and the partnerships/linkages needed to provide the services.

Steps to HealthierUS: An initiative of the U. S. Department of Health and Human Services that advances the President's HealthierUS goal for helping Americans live longer, better, and healthier lives. The cornerstones of this program are physical fitness, prevention, nutrition, and making healthy choices. More can be found on the Web site: http://www.healthierus.gov.

Health Literacy: Degree to which individuals have the capacity to obtain, process and understand basic health information and services needed to make appropriate health decisions. In addition to the IOM report, information on health literacy can be found at: http://odphp.osophs.dhhs.gov/projects/healthcomm/objective2.htm.

Dated: June 23, 2005.
Dalton G. Paxman,
Regional Health Administrator, Region III, Philadelphia, PA.

[FR Doc. 05-13190 Filed 7-5-05; 8:45 am]

BILLING CODE 4150-33-P